COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add a product and services to the Procurement List that will be furnished by nonprofit agencies employing persons who are blind or have other severe disabilities, and deletes products and services previously furnished by such agencies.

DATES: Comments must be received on or before: March 3, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities. The following product and services are proposed for addition to the Procurement List for production by the nonprofit agencies listed:

Product

NSN—Product Name: 8465-00-NIB-0263—Airborne Rucksack, Modular Lightweight Load‐Carrying Equipment (MOLLE), OCP2015

Mandatory Sources of Supply: Winston-Salem Industries for the Blind, Inc., Winston-Salem, NC, Peckham Vocational Industries, Inc., Lansing, MI

Mandatory for: 20,000 units annually for the requirement for the U.S. Army

Contracting Activity: DEPT OF THE ARMY, W6QK ACC-APG NATICK

Services

Service Type: Administrative Service

Mandatory for: US Army Corps of Engineers, Huntsville Engineering and Support Center, Huntsville, AL

Mandatory Source of Supply: Huntsville Rehabilitation Foundation, Huntsville, AL

Contracting Activity: DEPT OF THE ARMY, W2V6 USA ENG SPT CTR HUNTSVIL

Service Type: Facilities Management and Related Services

Mandatory for: US Army, Eastern ARNG Aviation Training Site, Fort Indiantown Gap, Annville, PA

Mandatory Source of Supply: Opportunity Center, Incorporated, Wilmington, DE

Contracting Activity: DEPT OF THE ARMY, W7NX USPFO ACTIVITY PA ARNG

Deletions

The following products and services are proposed for deletion from the Procurement List:

Products

NSN—Product Name: MR 893—Ergo Grater

Mandatory Source of Supply: Cincinnati Association for the Blind, Cincinnati, OH

NSNs—Product Names:

MR 443—Candle, Soy, Cucumber Melon Scented, 8.5oz

MR 445—Candle, Soy, Thai Lemon Scented, 8.5oz

MR 447—Candle, Soy, Venetian Nights Scented, 8.5oz

MR 410—Bag, Shopping Tote, Laminated, Small, Summer

MR 411—Bag, Shopping Tote, Laminated, Large, Summer

MR 412—Grocery Shopping Tote Bag, Laminated, Seasonal, Fall, Small

MR 422—Grocery Shopping Tote Bag, Laminated, Breast Cancer, Small

MR 459—Grocery Shopping Tote Bag, Laminated, Easter, Blue Eggs, Gift

MR 460—Grocery Shopping Tote Bag, Laminated, Easter, Blue Eggs, Small

MR 461—Grocery Shopping Tote Bag, Laminated, Easter, Blue Eggs, Large

MR 466—Grocery Shopping Tote Bag, Laminated, Easter, Orange Eggs, Gift

MR 468—Grocery Shopping Tote Bag, Laminated, Easter, Orange Eggs, Large

MR 11011—Grocery Shopping Tote Bag, Laminated, Commissary 150th Anniversary, Exterior Scene

MR 11050—Grocery Shopping Tote Bag, Laminated, Spring, Purple, Small

MR 11084—Grocery Shopping Tote Bag, Laminated, Heart Smart, Small

Mandatory Source of Supply: Industries for the Blind and Visually Impaired, Inc., West Allis, WI

NSN—Product Name: MR 11301—Cooler, Styrofoam, Handled, 12 Qt.

Mandatory Source of Supply: Winston-Salem Industries for the Blind, Inc., Winston-Salem, NC

Contracting Activity: Defense Commissary Agency

NSN—Product Name: 8010-00-935-7079—Enamel, Lacquer, Acrylic, Flat Black

Mandatory Source of Supply: The Lighthouse for the Blind, St. Louis, MO

NSN—Product Name: 8345-00-673-9992—Streamer, Warning, Aircraft, Red, 24″ x 3″

Mandatory Source of Supply: Coastal Enterprises of Jacksonville, Inc., Jacksonville, NC

Contracting Activity: Defense Logistics Agency Troop Support

NSN—Product Name: 1005-00-659-1031—Cover, Spare Barrel

Mandatory Source of Supply: The Douglas Center, Skokie, IL

Contracting Activity: Defense Logistics Agency Land and Maritime

NSN—Product Name:

6645-01-492-9821—Clock, Wall, Atomic, Bronze, Custom Logo, 12¾″ Diameter

6645-01-491-9830—Clock, Wall, Atomic, White, Custom Logo, 9¼″ Diameter

6645-01-491-9805—Clock, Wall, Atomic, White, 9¼″ Diameter

6645-01-421-6905—Clock, Wall, Slimline, Stone Gray, 9¼″ Quartz

6645-01-456-6031—Clock, Wall, 24 Hour, Slimline, Bronze, Custom Logo, 9¼″ Quartz

Mandatory Source of Supply: Chicago Lighthouse Industries, Chicago, IL

NSN—Product Name: 7530-01-600-2019—Notebook, Spiral Bound, Biobased Bagasse Paper, 8x10½″, 70 sheets, College Rule, White

Mandatory Sources of Supply: Winston-Salem Industries for the Blind, Inc., Winston-Salem, NC, The Arkansas Lighthouse for the Blind, Little Rock, AR

NSNs—Product Names:

7510-01-624-8697—Refill, Pen, Roller Ball, Retractable, Airplane Safe, Black Ink, 0.7mm

7510-01-624-8698—Refill, Pen, Roller Ball, Retractable, Airplane Safe, Blue Ink, 0.5mm

7510-01-624-8699—Refill, Pen, Roller Ball, Retractable, Airplane Safe, Black Ink, 0.5mm

7510-01-624-8700—Refill, Pen, Roller Ball, Retractable, Airplane Safe, Blue Ink, 0.7mm

Mandatory Source of Supply: San Antonio Lighthouse for the Blind, San Antonio, TX

NSN—Product Name: 7530-01-515-7901—Paper, Printer, Ink Jet, Photo Quality, Matte, Letter, 89 Bright White

Mandatory Source of Supply: Wiscraft, Inc., Milwaukee, WI

NSN—Product Name: 7510-01-483-9402—Log Book, Voice Mail, White, 50 pages

Mandatory Source of Supply: The Arkansas Lighthouse for the Blind, Little Rock, AR

Contracting Activity: GSA/FAS ADMIN SVCS ACQUISITION BR (2), NEW YORK, NY

Services

Service Type: Switchboard Operation

Mandatory for: Veterans Affairs Medical Center, Nashville, TN, Temporary Medical Record Filing, Alvin C. York VA Medical Center, Murfreesboro, TN, Temporary Medical Record Filing, VA Medical Center, Nashville, TN

Mandatory Source of Supply: Ed Lindsey Industries f/t Blind, Inc., Nashville, TN

Contracting Activity: VETERANS AFFAIRS, DEPARTMENT OF, NAC

Service Type: Janitorial/Custodial

Mandatory for: Armed Forces Reserve Center: 1702 Tahoma Avenue Yakima, WA

Mandatory Source of Supply: Yakima Specialties, Inc., Yakima, WA

Contracting Activity: DEPT OF THE NAVY, U S FLEET FORCES COMMAND

Service Type: Janitorial/Custodial

Mandatory for: U.S. Federal Building: 815 Airport Way, U.S. Department of Justice, INS Seattle, WA

Mandatory Source of Supply: Northwest Center, Seattle, WA

Contracting Activity: FEDERAL PRISON SYSTEM, TERMINAL ISLAND, FCI

Service Type: Janitorial/Custodial

Mandatory for: U.S. Customs House: 220 NE 8th Avenue Portland, OR

Mandatory Source of Supply: Relay Resources, Portland, OR

Contracting Activity: DEPARTMENT OF THE TREASURY

Service Type: Custodial Services

Mandatory for: Army Reserve Contracting Center: 1605 Coraopolis Heights Road Coraopolis Satellite Office/PA178 West Pointe Corp Coraopolis, PA

Mandatory Source of Supply: Hancock County Sheltered Workshop, Inc., Weirton, WV

Contracting Activity: DEPT OF THE ARMY, W40M NORTHEREGION CONTRACT OFC

Service Type: Janitorial/Custodial

Mandatory for: U.S. Federal Building: 511 NW Broadway Portland, OR

Mandatory Source of Supply: Relay Resources, Portland, OR

Contracting Activity: PUBLIC BUILDINGS SERVICE, GSA/PBS

Service Type: Custodial Services

Mandatory for: Edward Hines Jr. VA Hospital: Hines Campus 5th Avenue Hines, IL, Edward Hines Jr. VA Hospital: Hines Campus Roosevelt Road Hines, IL

Mandatory Source of Supply: Jewish Vocational Service and Employment Center, Chicago, IL

Contracting Activity: VETERANS AFFAIRS, DEPARTMENT OF, NAC

Service Type: Food Service

Mandatory for: Illinois National Guard, Lincoln's Challenge Academy: 205 W Dodge, Building 303 Rantoul, IL

Mandatory Source of Supply: Challenge Unlimited, Inc., Alton, IL

Contracting Activity: DEPT OF DEFENSE, DOD/OFF OF SECRETARY OF DEF (EXC MIL DEPTS)

Service Type: Janitorial/Custodial

Mandatory for: U.S. Army Corps of Engineers: Saylorville Lake Project Saylorville Lake, IA

Mandatory Source of Supply: Goodwill Solutions, Inc., Johnston, IA

Contracting Activity: DEPT OF THE ARMY, W07V ENDIST ROCK ISLAND

Service Type: Janitorial/Custodial

Mandatory for: U.S. Army Reserve Center—Windsor Locks: 700 South Quaker Lane West Hartford, CT U.S. Army Reserve Center—BG J.W. Middleton: 22 Phelps Road, West Hartford, CT

Mandatory Source of Supply: Allied Community Services, Inc., Enfield, CT

Contracting Activity: DEPT OF THE ARMY, W6QM MICC-FT DIX (RC-E)

Service Type: Administrative Services

Mandatory for: Fort Sam Houston: Directorate of Public Works Fort Sam Houston, TX

Mandatory Source of Supply: Training, Rehabilitation, & Development Institute, Inc., San Antonio, TX

Contracting Activity: DEPT OF THE ARMY, W40M NORTHEREGION CONTRACT OFC

Service Type: Janitorial/Custodial

Mandatory for: Naval Reserve Readiness Center, Seattle, WA

Contracting Activity: DEPT OF THE NAVY, U S FLEET FORCES COMMAND

Service Type: Administrative Services

Mandatory for: Delaware Valley Office: GSA Region3 402 E State Street Trenton, NJ

Mandatory Source of Supply: Elwyn, Aston, PA

Contracting Activity: PUBLIC BUILDINGS SERVICE, GSA/PBS/R03 NORTH SERVICE CENTER

Service Type: JWOD Staffing Services

Mandatory for: GSA, Nationwide, Washington, DC

Mandatory Source of Supply: Ed Lindsey Industries f/t Blind, Inc., Nashville, TN

Service Type: Janitorial/Custodial

Mandatory for: U.S. Federal Building—Everett 3002 Colby Avenue Everett, WA

Mandatory Source of Supply: AtWork!, Bellevue, WA

Service Type: Recycling Service

Mandatory for: Federal Center/Battle Creek: Buildings 1, 1A, 1B, 2, 2A, and 2C 74 North Washington, Battle Creek, MI

Mandatory Source of Supply: Navigations, Incorporated, Battle Creek, MI

Service Type: Janitorial/Custodial

Mandatory for: U.S. Federal Building and Post Office 18th & K Streets Merced, CA

Service Type: Administrative Services

Mandatory for: GSA, Regional Emergency Management Control Center: GSA Complex, Auburn, WA

Mandatory Source of Supply: Relay Resources, Portland, OR

Service Type: Administrative Services

Mandatory for: Federal Supply Service: 1500 E Bannister Road Kansas City, MO

Mandatory Source of Supply: JobOne, Independence, MO

Service Type: Janitorial/Custodial

Mandatory for: Denver Federal Center: Building 85 Denver, CO

Mandatory Source of Supply: North Metro Community Services for Developmentally Disabled, Westminster, CO

Service Type: Administrative Service

Mandatory for: GSA, Pacific Rim Region PBS: 450 Golden Gate Avenue San Francisco, CA

Mandatory Source of Supply: Toolworks, Inc., San Francisco, CA

Service Type: Operation of GSA Access Store

Mandatory for: U.S. Federal Building and Courthouse: 450 Golden Gate Avenue, Phillip Burton, San Francisco, CA

Mandatory Source of Supply: Pacific Coast Community Services, Richmond, CA

Contracting Activity: GENERAL SERVICES ADMINISTRATION

Service Type: Shelf Stocking & Custodial

Mandatory for: Meridian Naval Air Station Meridian, MS

Mandatory Source of Supply: Alabama Goodwill Industries, Inc., Birmingham, AL

Service Type: Shelf Stocking & Custodial

Mandatory for: Fort Gillem, GA

Mandatory Source of Supply: Brevard Achievement Center, Inc., Rockledge, FL

Service Type: Shelf Stocking & Custodial

Mandatory for: Homestead Air Reserve Base, FL

Mandatory Source of Supply: Goodwill Industries of South Florida, Inc., Miami, FL

Service Type: Shelf Stocking, Custodial & Warehousing

Mandatory for: Travis Air Force Base, CA

Mandatory Source of Supply: PRIDE Industries, Roseville, CA

Contracting Activity: DEFENSE COMMISSARY AGENCY (DECA)

Patricia Briscoe,
Deputy Director, Business Operations (Pricing and Information Management).

[FR Doc. 2019-00736 Filed 1-31-19; 8:45 am]

BILLING CODE 6353-01-P